DEPARTMENT OF COMMERCE

National Oceanic and Atmospheric Administration

[I.D. 091201A]

Submission for OMB Review; Comment Request

SUPPLEMENTARY INFORMATION: The Department of Commerce has submitted to the Office of Management and Budget (OMB) for clearance the following proposal for collection of information under the provisions of the Paperwork Reduction Act (44 U.S.C. Chapter 35).

Agency: National Oceanic and Atmospheric Administration (NOAA).

Title: Marine Recreational Fishery Statistics Survey.

Form Number(s): None.

OMB Approval Number: 0648-0052.

Type of Request: Regular submission.

Burden Hours: 34,887.

Number of Respondents: 667,729.

Average Hours Per Response: 7 minutes for telephone survey of fishing household, 7 minutes for telephone survey of vessel operator fishing effort, 4.5 minutes for intercept survey of anglers, 3 minutes for economic telephone survey of households, 60 minutes for an in-person economic survey of vessel operators, 8 minutes for a telephone economic survey of vessel operators, 8 minutes for economic intercept questions and telephone follow-up survey of anglers, 15 minutes for economic intercept questions and follow-up mail survey of anglers, 2 minutes for a vessel directory survey, 2 minutes for a vessel operator verification call, 1.5 minutes for an intercept survey verification call, 1 minute for a telephone contact of non-fishing households, .5 minutes for a telephone contact of non-households, and 1 minute for a biological data collection.

Needs and Uses: This survey conducts random telephone interviews of residents of coastal county households to obtain data on marine recreational fishing efforts and conducts random field interviews of anglers returning from fishing trips to obtain data on the average catches of different fish species per angler fishing trip. These data are used to calculate bi-monthly estimates of marine recreational fishing participation, effort, and catch by species. The effort and catch estimates are used in the development, implementation, and monitoring of fishery management programs by the NMFS, regional fishery management councils, interstate marine fisheries commissions, and state fishery agencies.

Affected Public: Individuals or households.

Frequency: On occasion.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: September 7, 2001.
Madeleine Clayton,
Departmental Paperwork Clearance Officer, Office of the Chief Information Officer.

[FR Doc. 01-23180 Filed 9-14-01; 8:45 am]

BILLING CODE 3510-22-S